DEPARTMENT OF VETERANS AFFAIRS

VA's National Academic Affiliations Council, Notice of Meeting

The Department of Veterans Affairs (VA) gives notice under the Federal Advisory Committee Act, 5 U.S.C. Ch. 10, that a meeting of the VA's National Academic Affiliations Council (NAAC) will be held on August 13, 2025-August 14, 2025, at the Minneapolis VA Health Care System, 1 Veterans Drive, Minneapolis, MN 55417. The meeting sessions will begin and end as follows:

Date | Time | Location | Open session
Wednesday, August 13 2025 | 9:00 a.m. to 2:00 p.m. Central Standard Time (CST) | The Minneapolis VA Health Care System, 1 Veterans Drive, Minneapolis, MN 55417 | Yes
Wednesday, August 13 2025 | 2:00 p.m. to 3:30 p.m. CST | The Minneapolis VA Health Care System, 1 Veterans Drive, Minneapolis, MN 55417 | No
Wednesday, August 13 2025 | 3:30 p.m. to 5:00 p.m. CST | The Minneapolis VA Health Care System, 1 Veterans Drive, Minneapolis, MN 55417 | Yes
Thursday, August 14, 2025 | 9:00 a.m. to 1:00 p.m. CST | The University of Minnesota, 420 Delaware Street SE, Minneapolis, MN 55455 | No

The meetings are open to the public, except when the Council is conducting tours of VA facilities. Tours of VA facilities are closed to protect Veterans' privacy and personal information, in accordance with 5 U.S.C Sec. 552b(c)(6).

The purpose of the Council is to advise the Secretary on matters affecting partnerships between VA and its academic affiliates.

On August 13, 2025, the Council will convene an open session and receive presentations and updates beginning at 9:00 a.m., CST. The agenda will include a presentation from the Minneapolis VA on academic relationships and accomplishments, updates from the Clinical Educator Protected Time for Teaching Subcommittee, the Strategic Academic Advisory Council (SAAC), and VHA Background, Suitability, Recruitment/Replacement Issues with Trainees. In the afternoon, the Council will begin the closed portion of the meeting from 2:00 p.m.-3:30 p.m. CST, as it tours the Minneapolis VA Health Care System. Tours of VA facilities are closed to protect Veterans' privacy and personal information, in accordance with 5 U.S.C Sec. 552b(c)(6). The Council will reconvene at 3:30 p.m. for discussions and recommendations. The Council will receive public comments from 4:30 p.m.-5:00 p.m. CST. The comment period may end sooner, if there are no comments presented or they are exhausted before the end time. The meeting will adjourn that day at 5:00 p.m. CST.

On August 14, 2025, the Council will convene a closed session and receive presentations and updates beginning at 9:00 a.m., CST. This portion of the meeting will be closed to the public to avoid disclosure of information of a personal nature where disclosure would constitute a clearly unwarranted invasion of personal privacy under 5 U.S.C. 552b (c)(6). The meeting will adjourn at 1:00 p.m. CST.

Interested persons may attend and present oral statements to the Council on August 13, 2025, during the public comment period. The designated public dial in number to attend the conference is 872 701 0185. At the prompt, enter meeting ID 422 691 047 #. A sign-in sheet for those who want to give comments will be available at the meeting. Individuals who speak are invited to submit a 1-2-page summary of their comments at the time of the meeting for inclusion in the official meeting record. Oral presentations will be limited to five minutes or less, depending on the number of participants. Interested parties may also provide written comments for review by the Council prior to the meeting to Ms. Nellie Mitchell, Designated Federal Officer, or at any time via email to Nellie.Mitchell@va.gov. Any member of the public wishing to attend or seeking additional information should contact Ms. Mitchell via email or by phone at 608-358-9902.

Dated: June 23, 2025.
Jelessa M. Burney,
Federal Advisory Committee Management Officer.

[FR Doc. 2025-11736 Filed 6-25-25; 8:45 am]

BILLING CODE 8320-01-P